DEPARTMENT OF DEFENSE

Department of the Navy

Record of Decision for the Disposal and Reuse of Surplus Navy Property Identified in the Guam Land Use Plan Update (GLUP '94)

SUMMARY: The Department of the Navy (Navy), pursuant to section 102(2)(C) of the National Environmental Policy Act of 1969 (NEPA), 42 U.S.C. 4332(2)(C) (1994), and the regulations of the Council on Environmental Quality that implement NEPA procedures, 40 CFR parts 1500-1508, hereby announces its decision to dispose of surplus Navy property identified in the GLUP 94, Guam Land Use Plan Update (A Plan for Department of Defense Real Estate on Guam), dated April 1995 (GLUP '94). This surplus property is located in the United States Territory of Guam.

Navy analyzed the impacts of the disposal and reuse of GLUP '94 surplus Navy property in an Environmental Impact Statement (EIS) as required by NEPA. The EIS analyzed three reuse alternatives and identified the Reuse Plan for GLUP '94 Navy Properties, dated October 1996 (Reuse Plan), prepared by the GLUP '94 Reuse Planning Committee and the Guam Economic Development Authority (GEDA), as the GEDA Recommended Alternative. The Government of Guam is the Local Redevelopment Authority for these surplus properties, as defined in the Department of Defense Rule on Revitalizing Base Closure Communities and Community Assistance, 32 CFR § 176.20(a).

The alternative chosen will use the GLUP '94 Navy properties for parks and recreation, historic and natural resource conservation, residential, commercial, resort, industrial, and agricultural land uses, and extensive regional roadway improvements. These land uses will meet the Navy goals of achieving local economic redevelopment, creating new jobs, and providing additional housing, while limiting adverse environmental impacts and ensuring land uses that are compatible with adjacent property. Selection of the specific means to achieve the proposed redevelopment is in the hands of the acquiring entities and the local zoning authorities.

Background

In 1993, the Commander in Chief, United States Pacific Command assigned Navy to lead a review of all military land requirements on the island of Guam and develop a master plan for future DoD land use. Navy and the Department of the Air Force (Air Force) established the Guam Land Use Working Group to do a comprehensive review of military mission related land requirements on Guam.

Navy prepared and distributed a resulting master plan, known as the GLUP '94. The GLUP '94 recommended consolidation of military activities in the northern and southern parts of the island and it identified more than 8,000 acres of releasable Air Force and Navy properties.

Under the authority of the Defense Base Closure and Realignment Act of 1990, Public Law 101-510, 10 U.S.C. 2687 note (1994), the 1995 Base Realignment and Closure (BRAC) Commission recommended that Navy dispose of the property declared releasable under the GLUP '94, with appropriate restrictions. These recommendations were approved by President Clinton and accepted by the One Hundred Fourth Congress in 1995.

Description of the Property

The EIS analyzed the disposal and reuse of 2,798 acres of the 8,081 acres identified in the GLUP '94. The analysis excluded the GLUP '94 property owned by Air Force, Naval Air Station (NAS) Agana property covered under separate environmental documentation, 50 acres at Barrigada that will be transferred to the National Guard Bureau, 24 acres consisting of the Agana, Piti and Tanguisson Power Plants that Navy plans to convey by special legislation and agreement, and 23 acres at New Apra Heights which was conveyed by the Secretary of Health and Human Services to the Government of Guam for the construction of the Agat-Santa Rita Wastewater Treatment Plant. In addition to the GLUP '94 properties, the EIS analyzed the 92-acre NAS Agana Officers Housing property that was recommended for closure by the 1995 BRAC Commission.

During the Federal screening process, the National Guard Bureau requested an interagency transfer of base closure property on Guam. Navy plans to transfer about 50 acres located in Barrigada to the National Guard Bureau for use in training activities and construction of additional facilities to support the Guam Army National Guard. This property consists of about 24 acres currently leased to the Guam Army National Guard and an additional 26 acres contiguous to the 24-acre site.

The 20 GLUP '94 surplus Navy properties considered in the present NEPA study range in size from 2 acres to 698 acres and are found in the northern, Barrigada, central, and southern regions of Guam. Navy currently has no operations at any of the 20 properties slated for disposal. Combined, the 20 properties contain about 320 residential units and 17 structures that were formerly used for operations, training, printing, communications, storage, commercial, recreation, agriculture, infrastructure, and support activities. The open space and undeveloped areas contain vacant fields, closed landfills, a beach park, wetlands, ravine forests and forests with limestone soils, savanna grassland, and steeply sloped, heavily vegetated areas. There is a commercial quarry operation located on one property. There are also archaeological sites eligible for listing on the National Register of Historic Places on nine of the properties.

Navy designated, in GLUP '94, the names and location numbers for each property. The northern region contains five properties totaling 824 acres: The Federal Aviation Administration (FAA) Housing (N2) property; the Harmon Annex (N3) property; the Marine Drive Utility (N4b) property; the Tamuning Telephone Exchange (N4c) property; and the NAS Officers Housing property (a non-GLUP '94 property) located at former NAS Agana.

The Barrigada region contains four GLUP properties totaling 773 acres: The Barrigada Route 16 (N5a) property; the Barrigada Route 15 (N5b) property; the Barrigada Hawaiian Rock (N5c) property; and the Barrigada Antenna Site (N5d) property.

The central region contains five GLUP properties totaling 953 acres: The Nimitz Hill Enlisted Housing (N10a) property; Nimitz Hill Vacant Lands (N10b) property; the Sasa Valley (N12a) property; the Tenjo Vista (N12b) property; and the Polaris Point (N14) property.

The southern region contains six GLUP properties totaling 271 acres: The New Apra Heights (N15) property; the Route 2A (N16) property; the Aflleje/Rizal Beach (N17) property; the Old Apra Heights (N18) property; the Navy Ordnance Annex North (West Parcel) (N19a) property; and the Navy Ordnance Annex North (East Parcel) (N19b) property.

The Environmental Analysis Process

Navy published a Notice Of Intent in the Federal Register on April 10, 1998, announcing that Navy would prepare an EIS for the disposal and reuse of surplus Navy property on Guam. On May 7, 1998, Navy held a public scoping workshop at the Chamorro Village in Agana, Guam; The scoping period concluded on May 26, 1998.

Navy distributed the Draft EIS on May 14, 1999, and commenced a 45-day public review and comment period that was extended until September 15, 1999. Both oral and written comments were received. On August 26, 1999, Navy held a public hearing at the Guam Hilton hotel in Agana.

Navy's responses to the public comments concerning the Draft EIS were incorporated in the Final EIS (FEIS), which was distributed to the public on September 27, 2000, for a review period that concluded on October 23, 2000. Navy received one letter commenting on the FEIS.

Alternatives

In the FEIS, Navy analyzed the environmental impacts of three reuse alternatives. Navy also evaluated a “No Action” alternative that considered leaving the property in caretaker status with Navy maintaining the physical condition of the property, providing a security force, and making repairs essential to safety.

In Guam Executive Order No. 96-19, dated July 9, 1996, the Governor of Guam, Carl T.C. Gutierrez, assigned the requirement to develop and implement a reuse plan for the GLUP '94 properties to Guam Economic Development Authority (GEDA). Also in this order, the Governor created the GLUP '94 Reuse Planning Committee to assist GEDA in this task. In October 1996, the Reuse Planning Committee and GEDA prepared the Reuse Plan for GLUP '94 Navy Properties. The Reuse Plan was approved by the Guam Legislature on December 23, 1996, and signed by the Governor of Guam on January 2, 1997.

The Reuse Plan provides general land use descriptions and estimated acreage. The Reuse Plan does not quantify development densities, such as number of and sizes of buildings and structures. The Reuse Plan also does not provide details of the infrastructure and roadway improvements required to support its proposed redevelopment of the properties.

In order to analyze potential impacts on the environment, such as infrastructure, traffic, population change, and socioeconomic conditions, Navy made projections of the future development to estimate the number and size of the buildings and structures at each property that would be consistent with the Reuse Plan. Navy considered roadway expansion, easements, site constraints and used the then-applicable I Tano-ta Land Use Plan to estimate development densities.

The I Tano-ta provided a framework to manage growth and land development on Guam. The plan provided guidelines for development intensities and zoning code performance standards. The I Tano-ta was passed by the Guam Legislature on April 17, 1998, as Guam Public Law 24-171, and went into effect on May 1, 1999. However, the Guam Legislature repealed the law within a few days. Currently, the Governor of Guam has responsibility to act on the future of the I Tano-ta. GEDA has indicated that regardless of the status of the I Tano-ta, the proposed land uses under the Reuse Plan remain valid.

The Alternative Selected

The selected alternative, identified in the FEIS as the GEDA Recommended Alternative, proposes a mix of land uses for the 20 properties including development of parks, recreational areas, historical and natural resource conservation projects, residential, commercial, resort, industrial, and agricultural land uses, as well as extensive regional roadway improvements.

The FAA Housing (N2) property covers about 698 acres along the coast of the Philippine Sea less than one mile south of Anderson Air Force Base. There were 89 residential units on this property that provided housing for FAA and Navy personnel, and these units were demolished due to irreparable damage from Typhoon Paka in 1997. The remainder of the land contains undeveloped forests with limestone soils. The selected alternative will develop a 128-room resort hotel, a 225-acre 18-hole golf course, and 390 single-family residential units. Conservation and recreational areas will be set aside to protect the natural and cultural resources located on the cliff line.

The Harmon Annex (N3) property, covering seven acres in an undeveloped area south of the FAA Housing property, contains a two-story building (Building 50) and a storage shed. The structures are surrounded by grass fields and paved areas. The selected alternative will develop Building 50 as a community center.

The Marine Drive Utility (N4b) property, covering 25 acres north of Marine Drive (Route 1) and west of Route 3, contains Building 169, a former Stars and Stripes facility. This grassy property is divided by an electric substation and is constrained by utility easements. The selected alternative will develop 150,000 square-feet of space for commercial activities.

The two-acre Tamuning Telephone Exchange (N4c) property is found below the cliff line of Tiyan (NAS Agana) on the south side of Marine Drive. The exchange contains two buildings surrounded by paved areas. The selected alternative plans demolition of the two buildings an development of about 27,000 square feet of space of commercial activities.

The NAS Officers Housing property at Tiyan covers 92 acres on top of a steep bluff. The selected alternative plans demolition of the existing 136 residential units. This alternative will also develop the Navy Post Exchange building as a neighborhood commercial center. The Government of Guam plans to build the Laderan Tiyan Parkway along the property's perimeter, which will provide an alternate access across the Tiyan plateau for the A.B. Won Pat Guam International Airport.

The Barrigada Route 16 (N5a) property, covering 345 acres, is found about one half mile southwest of Tiyan, south of the Naval Communication Areas Master Station Western Pacific Barrigada, and east of the National Guard Armory and P.C. Lujon School. Most of the property is open area for agriculture, athletic fields, and closed landfills. The selected alternative will develop a 42-acre recreational park, a 20-acres sports complex, and 100,000 square feet of space for industrial activities and warehouses. The remainder of the property will support agriculture.

The Barrigada Route 15 (N5b) property, located east of the Barrigada Route 16 parcel and the Navy's Admiral Nimitz Golf Course, covers 358 acres. Most of the land is undeveloped except for a vacant FAA Communications Building used most recently for golf course maintenance equipment storage. This property also contains closed landfills. The selected alternative will build about 1,500 affordable single-family residential units here.

The Barrigada Hawaiian Rock (N5c) property, covering 15 acres, is found east of Route 15 and adjacent to the southeastern corner of the Barrigada Route 15 (N5b) property. Hawaiian Rock Products Corporation operates a quarry facility of 10 acres of the property. The selected alternative will allow the quarry operations to continue. This alternative will also permit development of about 3,000 square feet of space for industrial facilities and warehouses.

The Barrigada Antenna Site (N5d) parcel is found east of Route 15 and covers 55 acres that formerly supported a Navy transmitter antenna. One building and four homes built by trespassers are located on the property's north end. The selected alternative will demolish these buildings; it will allow for construction of about 220 affordable single-family residential units and 10,000 square feet of space for commercial activities.

The Nimitz Hill Enlisted Housing (N10a) property covers 120 acres in the central region in the municipality of Asan. This property contains 78 residential units, recreational facilities, and a Quonset hut. The enlisted housing was part of the larger United States Naval Station, Nimitz Hill Annex that extended to the southeast. The Department of Defense Education Activity High School and Navy's Flag Circle housing are located to the southwest. The selected alternative will use the existing residential units for affordable and social service housing and it will allow for construction of an additional 80 single- and multi-family residential units here. This alternative will use the recreational facilities and it will preserve the property's steep slopes and dense vegetation.

The Nimitz Hill Vacant Lands (N10b) parcel covers 183 acres south of Route 6 and the Nimitz Hill Enlisted Housing (N10a) property. A Navy Public works Center sewage pumping station is located in the northern part of the property. The selected alternative will develop about 100,000 square feet of space in the northern part of the property for commercial and cultural facilities, such as hotels, shopping centers, theaters, museums and art galleries. In the southern part of the property, this alternative will build about 200 affordable residential townhouses along Mount Alutom Road. The remaining undeveloped forests will be set aside for hiking trails and conservation.

The nine-acre Sasa Valley (N12a) property, found in the central region municipality of Piti, was part of a former Navy tank farm. There are no structures on the property and it is steeply sloped and heavily vegetated. The selected alternative will allow for possible expansion of the Guam Veterans Cemetery located to the north and set aside the remainder of the property for conservation.

The Tenjo Vista (N12b) parcel, covering 559 acres, contains steeply sloped forests and wetlands. The property is located to the east of Route 1 (Marine Drive), the Polaris Point (N14) property, and both Inner and Outer Apra Harbor. There are active and inactive petroleum lines that lie beneath the property; the center of the property was a tank farm. The selected alternative will develop about 3,000 square feet of space for commercial activities along Marine Drive and it will set aside about 480 acres for conservation.

The Polaris Point (N14) property covers 82 acres and is found west of Marine Drive across from the Tenjo Vista (N12b) property. Polaris Point Access Road crosses the property from east to west and provides access to the retained Polaris Point Navy facilities. Outer Apra Harbor lies northeast of the property and Inner Apra Harbor lies southwest. There are wetlands on the northern part of the property. The southern part of the property contains one building and concrete berms remaining from the former Naval Supply Depot drum storage and waste facility. The selected alternative will develop about 50,000 square feet of space for industrial activities and warehouses and it will also preserve the wetlands.

The New Apra Heights (N15) property, covering 102 acres of undeveloped land, is found in the southern region municipality of Santa Rita. Steep slopes and swamp forest wetlands characterize the site. The selected alternative will support the development of a Government of Guam wastewater treatment plant, the widening of Routes 2A and 5, and set aside the remainder of the property for conservation.

The Route 2A (N16) property, covering 15 acres, is found in the southern region in the municipality of Sanata Rita and west of the New Apra Heights (N15) property. The property contains foundations from a demolished building. The selected alternative plans development of about 32,000 square feet of space for commercial and office uses.

The Aflleje/Rizal Beach (N17) property covers 16 acres and is found in the southern region in the municipality of Santa Rita. The property is bounded on the north by the Apra Harbor Naval Complex; on the east by Shoreline Drive (Route 2) and the Public Works Center Guam landfill; on the south by The War in the Pacific National Historical Park; and on the west by Agat Bay. The selected alternative will continue use of the property as a beach park and for conservation.

The Old Apra Heights (N18) property, a linear strip of undeveloped land located east of Cross Island Road (Route 17) in the municipality of Santa Rita, covers 13 acres. The property is traversed by access roads (driveways) that lead to private residence found further to the east. There is a Guam Power Authority electrical substation adjacent to the southern part of the property. The selected alternative will develop industrial activities on about 4.5 acres to support the Guam Power Authority's activities. This alternative will also develop 5,000 square feet of space for small neighborhood businesses on the remaining 8.5 acres.

The Navy Ordnance Annex North (west) (N19a) property covers 50 acres and it consists of undeveloped land with steep slopes and dense vegetation. It is found in the municipality of Santa Rita along Route 5 and surrounds the Tupo Reservoir. The selected alternative uses the property for parks and recreational activities.

The Navy Ordnance Annex North (east) (N19b) property, covering 52 acres, is found directly east of the Navy Ordnance Annex North (west) property on the other side of Route 5. Seventeen vacant residential units are in the southern part of the property, while the northern part of the property is undeveloped. The selected alternative will use the existing residential units and allow for development of about 11,000 square feet of space to support development of a youth camp.

Other Alternatives

Navy analyzed a second “action” alternative, described in the FEIS as the Lower Intensity Alternative. This alternative considers development of the GLUP '94 properties with more open space and less construction. Under this scheme, some existing facilities will be renovated rather than expanded, and fewer new buildings will be built.

In general, the Lower Intensity Alternative reduces the build-out proposed by the selected alternative by one-half. It proposes a smaller resort at the FAA Housing parcel, and would not develop a golf course. Residential development is reduced, with most of the residential units to be located in the northern and Barrigada regions. There would be less commercial development in residential neighborhoods. The Lower Intensity Alternative develops about half of the square footage proposed by the selected alternative for commercial facilities and warehouses. This alternative develops no industrial facilities at the Polaris Point (N14) property. Finally, the Guam Veterans Cemetery, the barrigada Sports Complex, and agricultural activities in Barrigada are not expanded.

Navy analyzed a third“action” alternative, described in the FEIS as the Higher Intensity Alternative. Reuse would be similar to that proposed under the selected alternative, but with an increase in development densities approaching the maximum allowed under Guam's then-applicable I Tano-ta land use and zoning guidelines. The Higher Intensity Alternative would allow for more new construction and development than that proposed under the selected alternative.

The Higher Intensity Alternative develops a larger resort in the northern region and it builds a 27-hole golf course at the FAA Housing (N2) property. This alternative builds a larger building at the Harmon Annex (N3) property for educational, office or community center activities. The Higher Intensity Alternative also develops larger residential subdivisions on all the properties where housing was proposed under the selected alternative. Compared to the selected alternative, the Higher Intensity Alternative would double the amount of proposed square footage of commercial and industrial facilities on several properties. This alternative also allows the Guam Power Authority to build a base load-generating power plant on the Rizal/Aflleje Beach (N17) property.

Environmental Impacts

Navy analyzed the direct, indirect, and cumulative impacts of each alternative. Effects on soils, geology, topography, hydrology, air quality, land use compatibility, noise, cultural resources, terrestrial biota and habitat, marine environment, roads and traffic, infrastructure, socioeconomic conditions, public services, and public health and safety are discussed in detail in the Environmental Impact Statement.

Significant Effects

The selected alternative will have a significant impact on land use compatibility. The proposed residential development on the Barrigada Route 15 (N5b) property is incompatible with the existing Hawaiian Rock Products Corporation quarry operations located on the Barrigada Hawaiian Rock (N5c) property. These incompatibilities could be mitigated by the use of buffers, screening, setbacks, and noise attenuation measures. This alternative would not have a significant impact on visual resources.

The selected alternative will have significant noise impacts on the new housing to be built on the NAS Officers Housing property and in the Barrigada region. The proposed residential development at the NAS Officers Housing property would be subject to vehicular noise along the proposed Laderan Tiyan Parkway. The proposed residential development in Barrigada would be subject to noise generated by the Hawaiian Rock Products Corporations' quarry operations. The impacts from noise could be mitigated by the use of buffers and noise attenuation measures.

The selected alternative could have a significant unmitigable impact on cultural resources. Pursuant to Section 106 of the National Historic Preservation Act of 1966, 16 U.S.C. 470f, (1994), and its implementing regulations, Protection of Historic Properties, 36 CFR part 800, Navy conducted a cultural resource assessment and determined that nine GLUP properties are known to contain historic sites, structures, or objects that are either listed or eligible for listing on the National Register of Historic Places. These nine properties are FAA Housing (N2), Barrigada Route 15 (N5A), Barrigada Route 16 (N5B), Nimitz Hill Enlisted Housing (N10A), Nimitz Hill Vacant Lands (N10B), Sasa Valley (N12A), Tenjo Vista (N12B), Polaris Point (N14), and Rizal/Aflleje Beach (N17).

Navy has completed consultation with the Advisory Council on Historic Preservation and the Guam Historic Preservation Officer pursuant to Section 106 and its implementing regulations. These consultations identified actions that Navy must take before it conveys GLUP '94 property and actions that the acquiring entities must take to avoid or mitigate adverse impacts on the archaeological sites that are listed or eligible for listing on the National Register. These obligations were set forth in a Programmatic Agreement, dated July 13, 2000, among Navy, the Advisory Council on Historic Preservation, and the Guam Historic Preservation Officer.

Navy will include a protective deed covenant in the conveyance documents for all historic properties. The provisions in the deed covenant will require that the acquiring entities: Obtain the express written permission of the Guam Historic Preservation Officer prior to undertaking actions that would disturb the ground of a historic site, make reasonable efforts to prevent vandalism or other disturbances, and permit the Guam Historic Preservation Officer the right to inspect the archaeological site at all reasonable times.

Under terms of the Programmatic Agreement, all projects sponsored, funded or authorized by the Government of Guam or GEDA that have the potential to affect historic properties will undergo review in accordance with Title 21 Guam Code Annotated, Chapter 76, Historical Objects and Sites (1994). As the selected alternative will develop several properties containing historic sites, the Guam Historic Preservation Officer's permission must be obtained and archaeological data recovery or other protective measures may be required.

The selected alternative will have significant impacts on traffic and circulation. By the year 2010, traffic volumes on affected roadway segments will increase from as little as one percent to as much as 40 percent on heavily affected routes. Implementation of this alternative will impact key intersections in the northern, Barrigada, and southern regions of Guam. With the exception of one northern region intersection at Routes 1 and 16, these impacts could be mitigated by the installation of traffic signals and turning lanes, realignment of intersection approaches, widening of roads, and increasing alternative transportation programs.

The selected alternative will have a significant cumulative impact on the demand for electricity. The demand for electricity by this alternative and other planned developments on Guam would require the Guam Power Authority to develop new electrical capacity earlier than previously projected. The selected alternative will upgrade or replace the electrical distribution systems at each property during redevelopment.

The selected alternative will have a significant impact on schools. This alternative's proposed residential development will substantially increase the number of students in the northern, Barrigada, and southern regions of the island. Local schools in Guam are already at capacity and in some cases the schools are over capacity. The Reuse Plan does not propose to build new schools on the GLUP properties.

The selected alternative will have significant cumulative impacts on Guam's health care, police, fire protection, and civil defense services. The new residential development in the northern and Barrigada regions proposed by the selected alternative and other planned developments on Guam will substantially increase the demand for these public services.

Less Than Significant Impacts of Disposal and Reuse

The selected alternatives will not have a significant impact on soils, geology, or topography. The Guam Environmental Protection Agency requires soil erosion control measures for new construction that will minimize soil erosion. Guam is located in a highly active seismic region. New construction activities will be required to meet current building codes governing seismic safety.

The selected alternative will not have a significant impact on storm water runoff and drainage patterns, surface and groundwater quality, or aquifer recharge potential. This alternative will alter drainage patterns and substantially increase the quantity of storm water runoff on eight properties (Harmon Annex, Marine Drive Utility, Tamuning Telephone Exchange, NAS Officer Housing, Barrigada Route 15, Antenna Site, Nimitz Hill Enlisted Housing, and Nmitz Hill Vacant Lands), with the largest increase (48 percent) at the proposed Barrigada Route 15 residential development. Runoff will be controlled by measures imposed by the Guam Environmental Protection Agency. Compliance with regulatory requirements, Best Management Practices, and spill prevention plans will minimize the potential for future groundwater contamination. The selected alternative will not have a significant impact on aquifer recharge potential.

Six GLUP '94 properties contain flood hazard zones: Tamuning Telephone Exchange, Barrigada Route 16, Tenjo Vista, Polaris Point, Route 2A, and Aflleje/Rizal Beach. Development in flood zones must comply with Guam's floodplain management regulations. Additionally, in accordance with Executive Order 11988, Floodplain Management, 3 CFR 117 (1978), Navy will place a notice in the conveyance document that describes those uses that are restricted under Federal and local floodplain regulations.

Five properties contain wetlands: Barrigada Route 16, Barrigada Route 15, Tenjo Vista, Polaris Point, and New Apra Heights. Compliance with Federal and local regulations governing development in wetlands will prevent significant impacts. Additionally, in accordance with Executive Order 11990, Protection of Wetlands, 3 CFR 121 (1978), Navy will place a notice in the conveyance document that describes those uses that are restricted under Federal and local wetland regulations.

The selected alternative will not have a significant impact on air quality. Compliance with the regulatory requirements that control emissions, such as the Clean Air Act, 42 U.S.C. 7401-7671q (1994), and Guam's Air Pollution Control Standards and Regulations, Guam Public Law 24-322 (1998), will prevent significant impacts from stationary sources. Emissions from vehicular sources are not expected to exceed Federal regulations; therefore, no significant impacts on air quality are anticipated.

The selected alternative will not have a significant impact on terrestrial biota and habitats. Navy consulted with the United States Fish and Wildlife Service under section 7 of the Endangered Species Act of 1973, 16 U.S.C. 1536 (1994). In a letter dated January 18, 2000, the Fish and Wildlife Service concurred with Navy's determination that the proposed disposal and reuse, as outlined in the Reuse plan, of the surplus Navy properties is not likely to adversely affect the following Federally-listed endangered species on Guam: the fire tree (Serianthes nelsonii), Mariana crow (Corvus kubayi), Mariana fruit bat (Pteropus mariannus mariannus), Mariana common moorhen (Gallinula chloropus guami), and the Federally-listed threatened green sea turtle (Chelonia mydas).

The acquiring entities will be required to prepare Environmental Protection Plans (EPPs) pursuant to the Water Pollution Control Act, Title 10, Guam Annotated Code, Part 2, Ch. 47. EPPs are management plans that identify protective measures and constraints for individual projects that must be submitted to Guam environmental Protection Agency for review and approval. The Government of Guam and the Fish and Wildlife Service executed a Memorandum of Understanding (MOU) to establish and maintain a program for the conservation of Federally listed threatened and endangered species.

The selected alternative will not have significant impact on marine resources or Federally listed threatened or endangered marine species. Navy engaged in consultation with the National Marine Fisheries Service under section 7 of the Endangered Species Act. In a letter dated December 23, 1999, the National Marine Fisheries Service concurred that the proposed disposal and reuse of the surplus Navy properties would not likely adversely affect Federally listed threatened or endangered marine species.

The selected alternative will not have significant impacts on potable water, wastewater collection and treatment facilities, and the capacity for solid waste disposal. The Guam Waterworks Authority has projected that the island will have an excess capacity of 10 million gallons per day (mgd) of potable water in 2010. The projected demand for potable water under the selected alternative will be about 1.5 mgd, which is below the available excess capacity of 10 mgd.

There is adequate capacity available at the three wastewater treatment plants (the Northern District Wastewater Treatment Plant (WWTP), the Agana WWTP, and the Agat WWTP) that are planned to service the GLUP properties. The selected alternative will upgrade or replace the wastewater and treatment distribution systems at each property during redevelopment.

The selected alternative assumed that new solid waste facilities would be developed because the Ordot Landfill, which has no excess capacity, will close. The amount of solid waste generated by this alternative is projected to be less than three percent of the total municipal solid waste generated on Guam in the year 2008. Guam's Integrated Solid Waste Management Plan recommends the reuse, recovery, and recycling of solid waste to lessen the impacts on solid waste facilities.

The selected alternative will not have significant adverse socioeconomic impacts. This alternative will create over 2,000 jobs that will generate a payroll of about $32 million per year. It is expected that residents of Guam will fill the new commercial and industrial jobs.

The selected alternative will not have a significant impact on the environment as a result of the use of petroleum products or the use or generation of hazardous substances by the acquiring entity. Hazardous materials used and hazardous wastes generated by the Reuse Plan will be managed in accordance with Federal and local laws and regulations.

Implementation of the selected alternative will not have an impact on public health and safety at the GLUP '94 properties. Navy will inform future property owners about the environmental condition of the property and may, when appropriate, include restrictions, notifications, or covenants in deeds to ensure the protection of human health and the environment in light of the intended use of the property. After the property is conveyed, Navy will assist the acquiring entities in the removal and disposal of newly discovered unexploded ordnance to the extent required by then-applicable federal laws and regulations and then-applicable Navy and DoD policies, subject to Congressional authority and the availability of appropriated funds.

Executive Order 12898, Federal Actions to Address Environmental Justice in Minority Populations and Low-Income Populations, 3 CFR 859 (1995), requires that Navy determine whether any low income and minority populations will experience disproportionately high and adverse human health or environmental effects from the proposed action. Navy analyzed the impacts on low income and minority populations pursuant to Executive Order 12898. The FEIS addressed the potential human health, socioeconomic, and environmental effects of the various proposed alternatives. Minority and low-income populations residing within the regions where the GLUP properties are located will not be disproportionately affected.

Navy also analyzed the impacts on children pursuant to Executive Order 13045, Protection of Children from Environmental Health Risks and Safety Risks, 3 CFR 198 (1998). Under the selected alternative, the largest concentration of children would be present in the residential, educational, and recreational areas. The selected alternative would not pose any disproportionate environmental health or safety risks to children.

Mitigation

Implementation of Navy's decision to dispose of the surplus property does not require Navy to implement any mitigation measures. Navy will take certain actions to implement existing agreements and regulations. These actions are treated as agreements or regulatory requirements rather than mitigation.

The FEIS identified and discussed those actions that will be necessary to minimize or avoid the impacts associated with the reuse and redevelopment of the GLUP '94 Navy surplus property. The acquiring entities, under direction of Federal and local agencies with regulatory authority over protected resources, will be responsible for implementing necessary mitigation measures following disposal of the property.

Comments Received on the Final EIS

Navy received comments on the FEIS from the Earthjustice Legal Defense Fund, a private organization writing on behalf of the Center for Biological Diversity. All of the substantive comments concerned issues already discussed in the FEIS.

Regulations Governing the Disposal Decision

Since the proposed action contemplates a disposal under the Defense Base Closure and Realignment Act of 1990 (DBCRA), Public Law 101-510, 10 U.S.C. 2687 note (1994), Navy's decision was based upon the environmental analysis in the FEIS and application of the standards set forth in the DBCRA, the Federal Property Management Regulations, 41 CFR part 101-47, and the Department of Defense Rule on Revitalizing Base Closure Communities and Community Assistance, 32 CFR parts 174 and 175.

Conclusion

The Local Redevelopment Authority has determined in its Reuse Plan that the GLUP '94 surplus Navy properties should be used for various purposes including parks and recreational, historical and natural resource conservation, residential, commercial, resort, industrial, and agricultural activities. The property's location, physical characteristics, existing infrastructure, as well as current uses of adjacent property make it appropriate for the proposed uses.

Although the “No Action” Alternative has less potential for causing adverse environmental impacts, this alternative would not result in more efficient Navy operations or lower operational costs. Additionally, it would not foster local economic redevelopment and would not create new jobs.

The acquiring entities, under the direction of Federal and local agencies with regulatory authority over protected resources, will be responsible for adopting practicable means to avoid or minimize environmental harm that may result from implementing the Reuse Plan.

Accordingly, Navy will dispose of the GLUP '94 surplus Navy property in a manner that is consistent with the Government of Guam's Reuse Plan for the property.

Dated: March 2, 2001.
Duncan Holaday,
Deputy Assistant Secretary, (Installations and Facilities).

[FR Doc. 01-6047 Filed 3-9-01; 8:45 am]

BILLING CODE 3810-FF-M